ENVIRONMENTAL PROTECTION AGENCY

[EPA-R07-SFUND-2025-0293; FRL-12830-01-R7]

Notice of Proposed CERCLA De Minimis Contributor Administrative Settlement Agreement and Order on Consent

AGENCY: Environmental Protection Agency (EPA).

ACTION: Notice; request for public comment.

SUMMARY: In accordance with of the Comprehensive Environmental Response, Compensation and Liability Act of 1980, as amended (CERCLA), notice is hereby given by the U.S. Environmental Protection Agency (EPA), Region 7, of a proposed CERCLA De Minimis Contributor Administrative Settlement Agreement and Order on Consent, with Allied Plastics LLC, Cascade Asset Management LLC, OmniSource LLC, Schupan Recycling a/k/a Schupan & Sons Inc., and Universal Recycling Technologies LLC. This agreement pertains to the Recycletronics—Akron Farm Facility Superfund Site located at 16998 160 St., Akron, Iowa.

DATES: Comments must be received on or before July 28, 2025.

ADDRESSES: The proposed settlement agreement is available for public inspection at EPA Region 7's office. A copy of the proposed agreement may also be obtained from Catherine Chiccine, EPA Region 7, 11201 Renner Boulevard, Lenexa, Kansas 66219, telephone number: (913) 551-7917. You may send comments, identified by Docket ID No. EPA-R07-SFUND-2025-0293 to https://www.regulations.gov. You may also send comments, identified by Recycletronics—Akron Farm Facility De Minimis Settlement Public Comment, to Ms. Chiccine at the above address or electronically to chiccine.catherine@epa.gov.

Instructions: All submissions received must include the Docket ID No. for this matter. Comments received will be posted without change to https://www.regulations.gov/, including any personal information provided.

FOR FURTHER INFORMATION CONTACT: Catherine Chiccine, Assistant Regional Counsel, Office of Regional Counsel, Environmental Protection Agency Region 7, 11201 Renner Boulevard, Lenexa, Kansas 66219; telephone number: (913) 551-7917; email address: chiccine.catherine@epa.gov.

SUPPLEMENTARY INFORMATION: The EPA conducted a Fund-lead Time-Critical Removal Action at the Recycletronics—Akron Farm Facility Superfund Site (Site) located at 16998 160 St., Akron, Iowa between March 2022 and July 2022 to remove approximately 944 tons of lead-containing cathode ray tube glass from the Site. Lead is a hazardous substance as defined by CERCLA.

To recover some of its response costs, the EPA negotiated a proposed CERCLA section 122(g)(4) De Minimis Contributor Administrative Settlement Agreement and Order on Consent Agreement (settlement) with multiple potentially responsible parties that arranged for disposal of hazardous waste at the Site. The EPA will enter the proposed Agreement with Allied Plastics LLC, Cascade Asset Management LLC, OmniSource LLC, Schupan Recycling a/k/a Schupan & Sons Inc., and Universal Recycling Technologies LLC (collectively, the “de minimis parties”). The de minimis parties agree to pay EPA for their portion of EPA's costs incurred in responding to the time-critical removal action at the Site.

The settlement includes a covenant by EPA not to sue or take administrative action against the de minimis parties, pursuant to sections 106 and 107(a) of CERCLA.

For thirty (30) days following the date of publication of this document, EPA will receive written comments relating to the settlement. EPA will consider all comments received and may modify or withdraw its consent to the settlement agreement if comments received disclose facts or considerations that indicate that the proposed settlement is inappropriate, improper, or inadequate. EPA's response to any comments received will be available for public inspection at EPA Region 7, 11201 Renner Boulevard, Lenexa, Kansas 66219.

James Macy,
Regional Administrator, EPA Region 7.

[FR Doc. 2025-11800 Filed 6-25-25; 8:45 am]

BILLING CODE 6560-50-P